DEPARTMENT OF TRANSPORTATION

Maritime Administration

[Docket No. DOT-MARAD-2021-0186]

Request for Comments on the Renewal of a Previously Approved Information Collection: Maritime Administration Annual Service Obligation Compliance Report

AGENCY: Maritime Administration, Transportation (DOT).

ACTION: Notice and request for comments.

SUMMARY: The Maritime Administration (MARAD) invites public comments on our intention to request the Office of Management and Budget (OMB) approval to renew an information collection. The information collected will be used to determine if a graduate of the U.S. Merchant Marine Academy or a State maritime academy Student Incentive Payment (SIP) program graduate is complying with the terms of the service obligation. We are required to publish this notice in the Federal Register by the Paperwork Reduction Act of 1995.

DATES: Comments must be submitted on or before October 18, 2021.

ADDRESSES: You may submit comments [identified by Docket No. DOT-MARAD-2021-0186] through one of the following methods:

• Federal eRulemaking Portal: www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Electronic Access and Filing

A copy of the notice may be viewed online at www.regulations.gov using the docket number listed above. A copy of this notice will be placed in the docket. Electronic retrieval help and guidelines are available on the website. It is available 24 hours each day, 365 days each year. An electronic copy of this document may also be downloaded from the Office of the Federal Register's website at www.FederalRegister.gov and the Government Publishing Office's website at www.GovInfo.gov.

FOR FURTHER INFORMATION CONTACT: Danielle Bennett, 202-366-7618, Office of Maritime Labor and Training, Maritime Administration, 1200 New Jersey Avenue SE, Room W23-458, Washington, DC 20590.

SUPPLEMENTARY INFORMATION:

Title: Maritime Administration Annual Service Obligation Compliance Report.

OMB Control Number: 2133-0509.

Type of Request: Renewal of a Previously Approved Information Collection.

Abstract: 46 U.S.C. 51306 and 46 U.S.C. 51509 imposes a service obligation on every graduate of the U.S. Merchant Marine Academy and every State maritime academy Student Incentive Payment (SIP) program graduate. This mandatory service obligation is for the Federal financial assistance the graduate received as a student. The obligation consists of (1) maintaining a U.S. Coast Guard merchant mariner credentials with an officer endorsement; (2) serving as a commissioned officer in the U.S. Naval Reserve, the U.S. Coast Guard Reserve or any other reserve unit of an armed force of the United States following graduation from an academy (3) serving as a merchant marine officer on U.S.-flag vessels or as a commissioned officer on active duty in an armed or uniformed force of the United States, NOAA Corps, PHS Corps, or other MARAD approved service; and (4) report annually on their compliance with their service obligation after graduation.

Respondents: Graduates of the U.S. Merchant Marine Academy and State maritime academy Student Incentive Payment (SIP) program graduates.

Affected Public: Individuals and/or household.

Estimated Number of Respondents: 2,100.

Estimated Number of Responses: 2,100.

Estimated Hours per Response: 20 minutes.

Annual Estimated Total Annual Burden Hours: 700.

Frequency of Response: Annually.

(Authority: The Paperwork Reduction Act of 1995; 44 U.S.C. Chapter 35, as amended; and 49 CFR 1.93.)

By Order of the Acting Maritime Administrator.
T. Mitchell Hudson, Jr.,
Secretary, Maritime Administration.

[FR Doc. 2021-17590 Filed 8-16-21; 8:45 am]

BILLING CODE 4910-81-P